ENVIRONMENTAL PROTECTION AGENCY

[OEI-2004-0001; FRL-7907-2]

Agency Information Collection Activities; Submission to OMB for Review and Approval; Comment Request; National Survey of Successful Waste Disposal Programs in Rural Areas in the United States, EPA ICR Number 2142.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before June 2, 2005.

ADDRESSES: Submit your comments, referencing docket ID number OEI-2004-0001, to (1) EPA online using EDOCKET (our preferred method), by e-mail to oei.docket@epa.gov, or by mail to: EPA Docket Center, Environmental Protection Agency, Office of Environmental Information Docket, Mail Code 28221T, 1200 Pennsylvania Ave., NW., Washington, DC 20460 and (2) OMB at: Office of Information and Regulatory Affairs, Office of Management and Budget (OMB), Attention: Desk Officer for EPA, 725 17th Street, NW., Washington, DC 20503.

FOR FURTHER INFORMATION CONTACT: Erin Newman, Region 5 Air and Radiation Division, Mail Code AR-18J, Environmental Protection Agency, 77 West Jackson Boulevard, Chicago, Illinois 60604; telephone number: 312-886-4587; fax number: 312-886-0617; e-mail address: newman.erin@epa.gov.

SUPPLEMENTARY INFORMATION: EPA has submitted the following ICR to OMB for review and approval according to the procedures prescribed in 5 CFR 1320.12. On June 7, 2004 (69 FR 31818), EPA sought comments on this ICR pursuant to 5 CFR 1320.8(d). EPA received no comments.

EPA has established a public docket for this ICR under Docket ID No. OEI-2004-0001, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: National Survey of Successful Waste Disposal Programs in Rural Areas in the United States.

Abstract: Under a USEPA grant, the Research Foundation for Health and Environmental Effects (RFHEE) will conduct a survey of household waste disposal options. In conjunction with the Rural Community Assistance Program and the National Volunteer Fire Council, RFHEE will develop a targeted survey to find successful methods of household trash disposal in rural areas besides burning, which releases toxic chemicals into the environment. The Partners will conduct telephone interviews with 50 state, local, or tribal officials who have trash burning bans (25 states) or who are concerned about the issue. In addition, 50 volunteer firefighters will be surveyed. Another 400 private citizens who live in areas with trash burning issues or programs will also be surveyed. Each group will respond to the same survey questions. The purpose of the survey is to find alternative, economically-feasible options for disposal. The results of the survey will be available to the public. This survey will not be used for any federal regulatory purposes.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 20 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Government officials, fire fighters, and public citizens.

Estimated Number of Respondents: 500.

Frequency of Response: One-time response.

Estimated Total Annual Hour Burden: 167 hours.

Estimated Total Annual Cost: $734, which includes $0. annualized Capital Expense, $0 O&M costs, and $734 Respondent Labor costs.

Dated: April 18, 2005.
Oscar Morales,
Director, Collection Strategies Division.

[FR Doc. 05-8786 Filed 5-2-05; 8:45 am]

BILLING CODE 6560-50-P